DEPARTMENT OF COMMERCE

National Oceanic and Atmospheric Administration

50 CFR Parts 600, 635, 648, 660, and 679

[Docket No. 040824244-4244-01; I.D. 052804A]

RIN 0648-AS44

Fishing Capacity Reduction; Fishing Capacity Reduction Program for the Crab Species Covered by the Fishery Management Plan for the Bering Sea/Aleutian Islands King and Tanner Crabs; Implementation of the Shark Finning Prohibition Act; Atlantic Highly Migratory Species; Fisheries of the Northeastern United States; Fisheries Off West Coast States and in the Western Pacific; Fisheries of the Exclusive Economic Zone Off Alaska

AGENCY: National Marine Fisheries Service (NMFS), National Oceanic and Atmospheric Administration (NOAA), Commerce.

ACTION: Final rule.

SUMMARY: NMFS publishes this final rule to reorganize, by redesignation, its fishing capacity reduction program (FCRP) regulations and FCRP fee system regulations. To accomplish this, it is also necessary to redesignate regulatory provisions implementing the Shark Finning Prohibition Act (Act). The redesignation involves changing subparts, renumbering regulatory provisions, and revising regulatory references. The substantive provisions are not changed in any way; only the old Code of Federal Regulations (CFR) unit numbers are redesignated with new CFR unit numbers. Also, one subpart title and one section title are modified. Several sections are reserved to ensure a logical organization. The intent of this rule is to improve understanding and ease of use of FCRP regulations, and to make additional sequential section numbers available for future FCRP regulations.

DATES: Effective September 1, 2004.

FOR FURTHER INFORMATION CONTACT: Robert Gorrell, Office of Sustainable Fisheries, NMFS headquarters, at 301-713-2341.

SUPPLEMENTARY INFORMATION:

Electronic Access

This Federal Register document is also accessible via the Internet at the Office of the Federal Register's Web site at http://www.access.gpo.gov/su-docs/aces/aces140.html.

Background

FCRP Framework Regulations

NMFS published its framework regulations for fishing capacity reduction programs on May 18, 2000 (65 FR 31443) as a new Subpart L—Fishing Capacity Reduction under Part 600—Magnuson-Stevens Act Provisions. These regulations serve as a framework that may be used in developing future FCRPs for specific fisheries and include provisions for fee payment and collection in repaying reduction loans. The section numbering of these framework regulations begins with § 600.1000 and ends with § 600.1017. The subpart title “Subpart L—Fishing Capacity Reduction” is being renamed “Subpart L—Fishing Capacity Reduction Framework.” Also, “§ 600.1018” is being redesignated as “§ 600.1103” in a new subpart M containing specific fishery program regulations.

In summary, the new subpart L of part 600 would be organized as follows:

Subpart L—Fishing Capacity Reduction Framework

§§ 600.1000-600.1017 Unchanged from current provisions.

Specific Fishery Program Regulations

The current “Subpart M—Shark Finning” will be redesignated as “Subpart N—Shark Finning” to make room for a new “Subpart M—Specific Fishery or Program Fishing Capacity Reduction Regulations.” This new subpart will contain all FCRP codified regulations specific to a fishery or related fisheries, including any FCRP fee system regulations for which FCRP regulations were not codified for that fishery (e.g., the Pacific groundfish fishing capacity reduction program was published as a notice (68 FR 42613, July 18, 2003) and not codified, while its fee collection system will be codified under subpart M at § 600.1102). The FCRP regulations in the new subpart M will be ordered chronologically by section number. The first section (§ 600.1100) will be reserved for purpose and scope, and general information.

The Alaska inshore pollock fee collection regulations currently constituting subpart G to Part 679—Fisheries of the Exclusive Economic Zone off Alaska of title 50 will be moved to § 600.1101 of the new subpart M. This was the first fishery-specific FCRP with codified regulations (65 FR 5281, Feb. 3, 2000; 65 FR 6921, Feb. 11, 2000).

The Pacific groundfish fee collection regulations (soon to be proposed in the Federal Register) will be codified under subpart M at § 600.1102. This would establish a fee collection system for a voluntary fishing capacity reduction program implemented in 2003 for the Pacific Coast groundfish trawl fishery (except whiting catcher processors)(68 FR 42613, July 18, 2003).

The Bering Sea and Aleutian Islands King and Tanner Crab fishing capacity reduction program regulations (68 FR 69331, December 12, 2003) will be moved to § 600.1103 of the new subpart M. This was the second fishery-specific FCRP with codified regulations, but will potentially be the third fishery to have a codified fee collection system. The readministered first referendum was unsuccessful. Consequently, NMFS sent a second invitation to bid and a second bidding form/reduction contract to 281 qualified bidders. Once the second round of bidding closes on September 24, 2004, NMFS will then hold a second referendum on the results of the second round of bidding. Assuming the second referendum passes, a proposed fee collection system could be published in the Federal Register later this year. The crab fee collection system would be codified under subpart M at § 600.1104.

In summary, the new subpart M of part 600 would be organized as follows:

Subpart M—Specific Fishery or Program Fishing Capacity Reduction Regulations

§ 600.1100 General. [Reserved]

§ 600.1101 Inshore Fee System for Repayment of the Loan to Harvesters of Pollock from the Directed Fishing Allowance Allocated to the Inshore Component Under Section 206(b)(1) of the AFA. (Note: §§ 600.1101(a)-(g) were moved from subpart G of part 679)

§ 600.1102 Pacific Groundfish fishing capacity reduction fee collection system. [Reserved]

§ 600.1103 Bering Sea and Aleutian Islands (BSAI) Crab species program. (Note: § 600.1108 was moved from subpart L of part 600)

§ 600.1104 Bering Sea and Aleutian Islands (BSAI) Crab fee collection system. [Reserved]

Shark Finning Regulations

The regulatory provisions governing shark finning that are being redesignated were published as a final rule on February 11, 2002 (67 FR 6200). Those regulations established a new Subpart M-Shark Finning in 50 CFR part 600 containing §§ 600.1019 through 600.1023. By beginning the section numbering sequence with § 600.1019, subpart M left insufficient room for Subpart L—Fishing Capacity Reduction to expand (subpart L ended with § 600.1018). That rule prohibits persons under U.S. jurisdiction from engaging in shark finning, possessing shark fins harvested on board a U.S. fishing vessel without corresponding shark carcasses, or landing shark fins harvested without corresponding carcasses. That shark finning rule also modified regulations pertaining to shark conservation and management for certain shark fisheries set forth in parts 635 (for Federal Atlantic Ocean, Gulf of Mexico, and Caribbean shark fisheries), 648 (for spiny dogfish fisheries), and 660 (for fisheries off West Coast states and in the western Pacific) of title 50 governing those fisheries. Because references to shark finning prohibitions in parts 635, 648, and 660 refer to subpart M of part 600, changes to parts 635, 648, and/or 660 are necessary as a result of redesignating this old subpart M as a new subpart N beginning with § 600.1200.

In summary, the new subpart N of part 600 would be organized as follows:

Subpart N—Shark Finning

§§ 600.1200-600.1204 Unchanged from current provisions.

Conforming changes will be made by the Office of the Federal Register to the Table of Contents for Part 600—Magnuson-Stevens Act Provisions and Part 679-Fisheries of the Exclusive Economic Zone off Alaska.

Classification

The Assistant Administrator for Fisheries, NOAA (AA), has determined that this final rule is consistent with the Magnuson-Stevens Fishery Conservation and Management Act and other applicable laws.

This final rule has been determined to be not significant for purposes of Executive Order 12866.

Pursuant to 5 U.S.C. 553(b)(B), the AA finds good cause to waive prior notice and opportunity for public comment otherwise required by the section. The AA finds that prior notice and comment are unnecessary as this rule has a non-substantive effect on the public. It reorganizes, by redesignation, FCRP regulations, FCRP fee system regulations, and shark finning regulations. That redesignation involves changing subparts, renumbering regulatory provisions, revising regulatory references, and reserving sections. The rule is designed to improve understanding and ease of use of FCRP regulations, and to make additional sequential section numbers available for future FCRP regulations. No particular public interest exists in this final rule for which there is the need for prior notice and comment.

Because this final rule does not institute any substantive obligations for the public, the requirement for a 30-day delay in the effective date of this action pursuant to 5 U.S.C. 553(d) does not apply.

Because prior notice and opportunity for public comment are not required for this rule by 5 U.S.C., or any other law, the analytical requirements of the Regulatory Flexibility Act, 5 U.S.C. 601 et seq., are not applicable.

List of Subjects

50 CFR Part 600

Fisheries, Fishing.

50 CFR Part 635

Fisheries, Fishing, Fishing Vessels, Foreign Relations, Intergovernmental relations, Penalties, Reporting and recordkeeping requirements, Statistics, Treaties.

50 CFR Part 648

Fisheries, Fishing, Reporting and recordkeeping requirements.

50 CFR Part 660

Administrative practice and procedure, American Samoa, Fisheries, Fishing, Guam, Hawaiian Natives, Indians, Northern Mariana Islands, Reporting and recordkeeping requirements.

50 CFR Part 679

Alaska, Fisheries, Recordkeeping and reporting requirements.

Dated: August 25, 2004.
William T. Hogarth,
Assistant Administrator for Fisheries, National Marine Fisheries Service.

For the reasons set out in the preamble, 50 CFR parts 600, 635, 648, 660 and 679 are amended as follows:

1. The authority citation for parts 600, 635, 648, 660, and 679 continues to read as follows:

Authority: 16 U.S.C. 1801 et seq.

PART 600—MAGNUSON-STEVENS ACT PROVISIONS

Subpart L—Fishing Capacity Reduction Framework

2. The title of subpart L of part 600 is revised to read as set forth above.

§§ 600.1019-600.1023 [Redesignated as §§ 600.1200-600.1204]

3. Subpart M (§§ 600.1019-600.1023) of part 600 is redesignated as subpart N (§§ 600.1200-600.1204), as follows:

Part 600, subpart M, old section | Part 600, subpart N, new section
§ 600.1019 | § 600.1200.
§ 600.1020 | § 600.1201.
§ 600.1020(a) | § 600.1201(a).
§ 600.1020(b) | § 600.1201(b).
§ 600.1020(c) | § 600.1201(c).
§ 600.1020(d) | § 600.1201(d).
§ 600.1021 | § 600.1202.
§ 600.1021(a) | § 600.1202(a).
§ 600.1021(b) | § 600.1202(b).
§ 600.1022 | § 600.1203.
§ 600.1022(a) | § 600.1203(a).
§ 600.1022(b)(1) | § 600.1203(b)(1).
§ 600.1022(b)(2) | § 600.1203(b)(2).
§ 600.1023 | § 600.1204.
§ 600.1023(a)(1) | § 600.1204(a)(1).
§ 600.1023(a)(2) | § 600.1204(a)(2).
§ 600.1023(b) | § 600.1204(b).
§ 600.1023(c) | § 600.1204(c).
§ 600.1023(d) | § 600.1204(d).
§ 600.1023(e) | § 600.1204(e).
§ 600.1023(f) | § 600.1204(f).
§ 600.1023(g) | § 600.1204(g).
§ 600.1023(h) | § 600.1204(h).
§ 600.1023(i) | § 600.1204(i).
§ 600.1023(j) | § 600.1204(j).
§ 600.1023(k) | § 600.1204(k).
§ 600.1023(l) | § 600.1204(l).

CHAPTER VI—[AMENDED]

4. In 50 CFR Chapter VI, all references to “§ 600.1022” are revised to read “§ 600.1203.”

5. In 50 CFR Chapter VI, all references to “§ 600.1023” are revised to read “§ 600.1204.”

6. A new subpart M for part 600 is added to read as follows:

Subpart M—Specific Fishery or Program Fishing Capacity Reduction Regulations

§ 600.1100 General [Reserved]

7. Section 600.1100 General of part 600, subpart M, is added and reserved.

PART 679—[AMENDED]

Subpart G of Part 679, §§ 679.70-679.76—[Redesignated as § 600.1101]

8. The heading of Subpart G is redesignated as the heading of § 600.1101.

9. Sections 679.70 through 679.76 of subpart G are redesignated as follows:

Part 679, subpart G, old section | Part 600, subpart M, new section
§ 679.70 section heading and text | § 600.1101(a) paragraph heading and text.
§ 679.71 section heading | § 600.1101(b) paragraph heading.
§ 679.71(a) | § 600.1101(b)(1).
§ 679.71(b) | § 600.1101(b)(2).
§ 679.71(c) | § 600.1101(b)(3).
§ 679.71(d) | § 600.1101(b)(4).
§ 679.71(e) | § 600.1101(b)(5).
§ 679.72 section heading | § 600.1101(c) paragraph heading.
§ 679.72(a) | § 600.1101(c)(1).
§ 679.72(a)(1) | § 600.1101(c)(1)(i).
§ 679.72(a)(2) | § 600.1101(c)(1)(ii).
§ 679.72(a)(2)(i) | § 600.1101(c)(1)(ii)(A).
§ 679.72(a)(2)(i)(A) | § 600.1101(c)(1)(ii)(A)(1).
§ 679.72(a)(2)(i)(B) | § 600.1101(c)(1)(ii)(A)(2).
§ 679.72(a)(2)(i)(C) | § 600.1101(c)(1)(ii)(A)(3).
§ 679.72(a)(2)(ii) | § 600.1101(c)(1)(ii)(B).
§ 679.72(b) | § 600.1101(c)(2).
§ 679.72(b)(1) | § 600.1101(c)(2)(i).
§ 679.72(b)(2) | § 600.1101(c)(2)(ii).
§ 679.72(c) | § 600.1101(c)(3).
§ 679.72(c)(1) | § 600.1101(c)(3)(i).
§ 679.72(c)(1)(i) | § 600.1101(c)(3)(i)(A).
§ 679.72(c)(1)(ii) | § 600.1101(c)(3)(i)(B).
§ 679.72(c)(1)(iii) | § 600.1101(c)(3)(i)(C).
§ 679.72(c)(1)(iv) | § 600.1101(c)(3)(i)(D).
§ 679.72(c)(2) | § 600.1101(c)(3)(ii).
§ 679.72(c)(2)(i) | § 600.1101(c)(3)(ii)(A).
§ 679.72(c)(2)(ii) | § 600.1101(c)(3)(ii)(B).
§ 679.72(c)(2)(iii) | § 600.1101(c)(3)(ii)(C).
§ 679.72(c)(2)(iv) | § 600.1101(c)(3)(ii)(D).
§ 679.72(c)(2)(v) | § 600.1101(c)(3)(ii)(E).
§ 679.73 section heading | § 600.1101(d) paragraph heading.
§ 679.73(a) | § 600.1101(d)(1).
§ 679.73(b) | § 600.1101(d)(2).
§ 679.73(c) | § 600.1101(d)(3).
§ 679.73(d) | § 600.1101(d)(4).
§ 679.73(d)(1) | § 600.1101(d)(4)(i).
§ 679.73(d)(1)(i) | § 600.1101(d)(4)(i)(A).
§ 679.73(d)(1)(ii) | § 600.1101(d)(4)(i)(B).
§ 679.73(d)(1)(iii) | § 600.1101(d)(4)(i)(C).
§ 679.73(d)(1)(iv) | § 600.1101(d)(4)(i)(D).
§ 679.73(d)(1)(v) | § 600.1101(d)(4)(i)(E).
§ 679.73(d)(1)(vi) | § 600.1101(d)(4)(i)(F).
§ 679.73(d)(1)(vii) | § 600.1101(d)(4)(i)(G).
§ 679.73(d)(1)(viii) | § 600.1101(d)(4)(i)(H).
§ 679.73(d)(1)(ix) | § 600.1101(d)(4)(i)(I).
§ 679.73(d)(2) | § 600.1101(d)(4)(ii).
§ 679.73(d)(2)(i) | § 600.1101(d)(4)(ii)(A).
§ 679.73(d)(2)(ii) | § 600.1101(d)(4)(ii)(B).
§ 679.73(d)(2)(iii) | § 600.1101(d)(4)(ii)(C).
§ 679.73(e) | § 600.1101(d)(5).
§ 679.73(e)(1) | § 600.1101(d)(5)(i).
§ 679.73(e)(2) | § 600.1101(d)(5)(ii).
§ 679.73(e)(3) | § 600.1101(d)(5)(iii).
§ 679.73(e)(4) | § 600.1101(d)(5)(iv).
§ 679.73(e)(5) | § 600.1101(d)(5)(v).
§ 679.73(e)(6) | § 600.1101(d)(5)(vi).
§ 679.73(e)(7) | § 600.1101(d)(5)(vii).
§ 679.73(f) | § 600.1101(d)(6).
§ 679.73(g) | § 600.1101(d)(7).
§ 679.73(h) | § 600.1101(d)(8).
§ 679.73(i) | § 600.1101(d)(9).
§ 679.74 section heading and text | § 600.1101(e) paragraph heading and text.
§ 679.75 section heading and text | § 600.1101(f) paragraph heading and text.
§ 679.76 section heading | § 600.1101(g) paragraph heading.
§ 679.76(a) | § 600.1101(g)(1).
§ 679.76(a)(1) | § 600.1101(g)(1)(i).
§ 679.76(a)(2) | § 600.1101(g)(1)(ii).
§ 679.76(a)(3) | § 600.1101(g)(1)(iii).
§ 679.76(a)(4) | § 600.1101(g)(1)(iv).
§ 679.76(a)(5) | § 600.1101(g)(1)(v).
§ 679.76(a)(6) | § 600.1101(g)(1)(vi).
§ 679.76(a)(7) | § 600.1101(g)(1)(vii).
§ 679.76(a)(8) | § 600.1101(g)(1)(viii).
§ 679.76(b) | § 600.1101(g)(2).

CHAPTER VI—[AMENDED]

10. In Chapter VI, all references to “§ 679.72” are revised to read “§ 600.1101(c).”

PART 600—[AMENDED]

§ 600.1102 Pacific groundfish fee collection system [Reserved]

11. Section 600.1102, Pacific groundfish fee collection system, of part 600, subpart M, is added and reserved.

§ 600.1018 [Redesignated as § 600.1103]

12. Section 600.1018 is redesignated as § 600.1103.

§ 600.1104 Bering Sea and Aleutian Islands (BSAI) Crab fee collection system [Reserved]

13. Section 600.1104 Bering Sea and Aleutian Islands (BSAI) Crab fee collection system of part 600, subpart M, is added and reserved.

PART 635—[AMENDED]

§§ 635.30 and 635.31 [Amended]

14. In §§ 635.30(c)(1) through (3) and 635.31(c)(3) and 635.31(c)(5), all references to “part 600, subpart M,” or to “part 600 (subpart M),” are revised to read “part 600, subpart N.”

§ 635.71 [Amended]

15. In § 635.71(d)(7), references to “§ 600.1023” are revised to read “§ 600.1204.”

PART 648—[AMENDED]

§ 648.14 [Amended]

16. In § 648.14(aa)(4) the reference to “§ § 600.1022 and 600.1023” is revised to read “§ § 600.1203 and 600.1204, part 600, subpart N.”

§ 648.235 [Amended]

17. In § 648.235(c) the reference to “part 600, subpart M,” is revised to read “part 600, subpart N.”

PART 660—[AMENDED]

§ 660.1 [Amended]

18. In § 660.1(c) the reference to “part 600, subpart M,” is revised to read “part 600, subpart N.”

[FR Doc. 04-19866 Filed 8-31-04; 8:45 am]

BILLING CODE 3510-22-P